DEPARTMENT OF THE INTERIOR

Fish and Wildlife Service

[FWS-HQ-IA-2013-N135; FXIA16710900000P5-123-FF09A30000]

Endangered Species; Issuance of Permits

AGENCY: Fish and Wildlife Service, Interior.

ACTION: Notice of issuance of permits.

SUMMARY: We, the U.S. Fish and Wildlife Service (Service), have issued the following permits to conduct certain activities with endangered species. We issue these permits under the Endangered Species Act (ESA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
89067A | Coleman Ranches, Ltd | 77 FR 68809; November 16, 2012 | December 28, 2012.
76016A | Richard Gracy | 77 FR 68809; November 16, 2012 | December 28, 2012.
85304A | David Brigham | 77 FR 68809; November 16, 2012 | December 28, 2012.
83485A | Coleman Ranches, Ltd | 77 FR 68809; November 16, 2012 | December 28, 2012.
83683A | Sheila Emerson | 77 FR 68809; November 16, 2012 | December 28, 2012.
76015A | Richard Gracy | 77 FR 68809; November 16, 2012 | December 28, 2012.
226351 | Herrmann, Eugene Jerry & Janelle Patrice | 77 FR 68809; November 16, 2012 | December 28, 2012.
88840A | Jonathan Stewart | 77 FR 68809; November 16, 2012 | December 28, 2012.
71447A | Global Health And Education Foundation | 77 FR 68809; November 16, 2012 | January 4, 2013.
86609A | Hondeaux Oaks. LLC | 77 FR 68809; November 16, 2012 | January 4, 2013.
86676A | Rafter O Ranch | 77 FR 68809; November 16, 2012 | January 4, 2013.
86465A | Campo De Rio Medio Ranch | 77 FR 68809; November 16, 2012 | January 4, 2013.
734011 | Festival Fun Parks LLC | 77 FR 68809; November 16, 2012 | January 4, 2013.
86469A | Hondeaux Oaks, LLC | 77 FR 68809; November 16, 2012 | January 4, 2013.
680582 | Life Fellowship Bird Sanctuary | 77 FR 68809; November 16, 2012 | January 4, 2013.
86456A | Rafter O Ranch | 77 FR 68809; November 16, 2012 | January 4, 2013.
84309A | Daniel Ray | 77 FR 68809; November 16, 2012 | January 4, 2013.
677573 | Reid Park Zoo | 77 FR 68809; November 16, 2012 | January 4, 2013.
002692 | Springhill Wildlife Park | 77 FR 68809; November 16, 2012 | January 4, 2013.
680356 | Utah's Hogle Zoo | 77 FR 68809; November 16, 2012 | January 4, 2013.
88651A | Circle E Ranch | 77 FR 68809; November 16, 2012 | January 10, 2013.
88044A | Double Arrow Bow Hunting | 77 FR 68809; November 16, 2012 | January 10, 2013.
88290A | Still Fox Ranch | 77 FR 68809; November 16, 2012 | January 10, 2013.
88649A | Circle E Ranch | 77 FR 68809; November 16, 2012 | January 10, 2013.
88038A | Double Arrow Bow Hunting | 77 FR 68809; November 16, 2012 | January 10, 2013.
88901A | Clifton Lincoln | 77 FR 68809; November 16, 2012 | January 10, 2013.
88288A | Still Fox Ranch | 77 FR 68809; November 16, 2012 | January 10, 2013.
88909A | Living Treasures Wild Animal Park | 77 FR 68809; November 16, 2012 | January 22, 2013.
88777A | Wild Wonders Zoofari | 77 FR 68809; November 16, 2012 | February 20, 2013.
88756A | Lionshare Farm Zoological LLC | 77 FR 68809; November 16, 2012 | March 12, 2013.
84317A | Diane Hitchcock | 77 FR 70457; November 26, 2012 | January 10, 2013.
83682A | Brian Holeman | 77 FR 70457; November 26, 2012 | January 10, 2013.
748351 | Endangered Species Propagation | 77 FR 70457; November 26, 2012 | January 11, 2013.
027091 | Alan Flynn | 77 FR 70457; November 26, 2012 | January 11, 2013.
713600 | Kingdom Of The Mammals | 77 FR 70457; November 26, 2012 | January 11, 2013.
89824A | Terry Owen | 77 FR 70457; November 26, 2012 | January 15, 2013.
89321A | Johnny B Corporation | 77 FR 70457; November 26, 2012 | January 15, 2013.
89708A | Terry Owen | 77 FR 70457; November 26, 2012 | January 15, 2013.
89123A | Tony Roach | 77 FR 70457; November 26, 2012 | January 15, 2013.
89821A | James Sillers | 77 FR 70457; November 26, 2012 | January 15, 2013.
89715A | Karla White | 77 FR 70457; November 26, 2012 | January 15, 2013.
073270 | Robert Opferman | 77 FR 70457; November 26, 2012 | January 16, 2013.
680444 | Roosevelt Park Zoo | 77 FR 70457; November 26, 2012 | January 16, 2013.
813047 | Staten Island Zoological Society | 77 FR 70457; November 26, 2012 | January 16, 2013.
678969 | Wildlife Conservation Society | 77 FR 70457; November 26, 2012 | January 16, 2013.
773473 | Zoological Society Of Sioux Falls | 77 FR 70457; November 26, 2012 | January 16, 2013.
778487 | Zoological Society Of San Diego | 77 FR 70457; November 26, 2012 | January 17, 2013.
705206 | Blank Park Zoo | 77 FR 70457; November 26, 2012 | January 17, 2013.
675130 | Central Florida Zoological Park | 77 FR 70457; November 26, 2012 | January 17, 2013.
195196 | Lionshare Farm Zoological LLC | 77 FR 70457; November 26, 2012 | January 17, 2013.
89124A | St. Catherines Island Foundation | 77 FR 70457; November 26, 2012 | February 14, 2013.
233238 | Timathy Beard | 77 FR 74506; December 14, 2012 | January 17, 2013.
232854 | Richard Ehrlich | 77 FR 74506; December 14, 2012 | January 17, 2013.
679556 | Indianapolis Zoological Society, Inc | 77 FR 74506; December 14, 2012 | January 17, 2013.
706378 | Palm Beach Zoo At Dreher Park | 77 FR 74506; December 14, 2012 | January 17, 2013.
91700A | Reptile Wrangler LLC | 77 FR 74506; December 14, 2012 | January 17, 2013.
89184A | Cinco Canyon Ranch | 78 FR 112; January 2, 2013 | February 14, 2013.
89185A | Cinco Canyon Ranch | 78 FR 112; January 2, 2013 | February 14, 2013.
92666A | Romeo Boone | 78 FR 4162; January 18, 2013 | February 26, 2013.
91310A | Campo De Rio Medio Ranch | 78 FR 4162; January 18, 2013 | February 26, 2013.
92665A | Romeo Boone | 78 FR 4162; January 18, 2013 | February 26, 2013.
92474A | Greenville Zoo | 78 FR 4162; January 18, 2013 | February 26, 2013.
93472A | David Horton | 78 FR 4162; January 18, 2013 | February 26, 2013.
93972A | Khj Property Management LLC | 78 FR 4162; January 18, 2013 | February 26, 2013.
93921A | Drs Family Partnership LP | 78 FR 4162; January 18, 2013 | February 27, 2013.
64652A | Kent Creek Ranch Inc | 78 FR 4162; January 18, 2013 | February 27, 2013.
93422A | Khj Property Management LLC | 78 FR 4162; January 18, 2013 | February 27, 2013.
93920A | Drs Family Partnership LP | 78 FR 4162; January 18, 2013 | February 27, 2013.
93748A | Surprise Spring Foundation | 78 FR 4162; January 18, 2013 | February 27, 2013.
94164A | Heaven On Earth Avian Acre | 78 FR 5481; January 25, 2013 | February 27, 2013.
93905A | Tanganyika Wildlife Park | 78 FR 5481; January 25, 2013 | March 11, 2013.
94067A | Ronald Garison | 78 FR 7447; February 1, 2013 | March 11, 2013.
691895 | International Crane Foundation | 78 FR 7447; February 1, 2013 | March 11, 2013.
683609 | Oklahoma City Zoological Park | 78 FR 7447; February 1, 2013 | March 11, 2013.
203027 | Panther Ridge Sanctuary | 78 FR 7447; February 1, 2013 | March 11, 2013.
95036A | Smoky Mountain Zoological Park Inc | 78 FR 7447; February 1, 2013 | March 11, 2013.
667821 | West Coast Game Park, Inc | 78 FR 7447; February 1, 2013 | March 11, 2013.
769096 | Montgomery Zoo | 78 FR 7447; February 1, 2013 | April 18, 2013.
91208A | Antonio Gutierrez | 78 FR 9725; February 11, 2013 | April 22, 2013.
793628 | International Center For The Preservation Of Wild Animals | 78 FR 12777; February 25, 2013 | April 11, 2013.
95027A | 4d Game Ranch | 78 FR 12777; February 25, 2013 | April 10, 2013.
96459A | Heart A Ranch | 78 FR 12777; February 25, 2013 | April 10, 2013.
95422A | Southwestern Medical Centers—Arizona Inc | 78 FR 12777; February 25, 2013 | April 10, 2013.
95026A | 4d Game Ranch | 78 FR 12777; February 25, 2013 | April 10, 2013.
96499A | Brian Buchanan | 78 FR 12777; February 25, 2013 | April 10, 2013.
94167A | Michael Burroughs | 78 FR 12777; February 25, 2013 | April 10, 2013.
96383A | Charles Crawford | 78 FR 12777; February 25, 2013 | April 10, 2013.
793094 | Patricia Green | 78 FR 12777; February 25, 2013 | April 10, 2013.
96457A | Heart A Ranch | 78 FR 12777; February 25, 2013 | April 10, 2013.
94867A | La Barronena Ranch East Partners, LP | 78 FR 12777; February 25, 2013 | April 10, 2013.
01668A | Christopher Resnyk | 78 FR 12777; February 25, 2013 | April 10, 2013.
96508A | Greg Schmitt | 78 FR 12777; February 25, 2013 | April 10, 2013.
95424A | Southwestern Medical Centers—Arizona Inc | 78 FR 12777; February 25, 2013 | April 10, 2013.
708685 | Exotic Feline Breeding Compound, Inc | 78 FR 12777; February 25, 2013 | April 11, 2013.
690797 | Peoria's Glen Oak Zoo | 78 FR 12777; February 25, 2013 | April 11, 2013.
034669 | Randar's Reptiles | 78 FR 12777; February 25, 2013 | April 11, 2013.
96647A | Zoological Wildlife Foundation, Inc | 78 FR 12777; February 25, 2013 | April 11, 2013.
692689 | Omaha's Henry Doorly Zoo | 78 FR 14817; March 7, 2013 | April 18, 2013.
97899A | Rock Head Properties, L.L.C. | 78 FR 14817; March 7, 2013 | April 22, 2013.
189400 | Brights Zoo | 78 FR 14817; March 7, 2013 | April 22, 2013.
97898A | Rock Head Properties, L.L.C. | 78 FR 14817; March 7, 2013 | April 22, 2013.
011708 | Seaworld California | 78 FR 14817; March 7, 2013 | April 22, 2013.
97961A | Tiger World Inc | 78 FR 14817; March 7, 2013 | April 22, 2013.
97746A | Blue Diablo LLC | 78 FR 14817; March 7, 2013 | April 18, 2013.
97677A | North Texas Outfitters | 78 FR 14817; March 7, 2013 | April 18, 2013.
97758A | Blue Diablo LLC | 78 FR 14817; March 7, 2013 | April 18, 2013.
203395 | Cape Fear Serpentarium | 78 FR 14817; March 7, 2013 | April 18, 2013.
93424A | Cdub | 78 FR 14817; March 7, 2013 | April 18, 2013.
687643 | Gladys Porter Zoo | 78 FR 14817; March 7, 2013 | April 18, 2013.
97815A | Adam Hunt | 78 FR 14817; March 7, 2013 | April 18, 2013.
97223A | North Texas Outfitters | 78 FR 14817; March 7, 2013 | April 18, 2013.
057232 | Parrot Mountain And Gardens | 78 FR 14817; March 7, 2013 | April 18, 2013.
227389 | Wildlife World Zoo, Inc | 78 FR 14817; March 7, 2013 | April 18, 2013.
692874 | Cleveland Metroparks Zoo | 78 FR 16292; March 14, 2013 | April 22, 2013.
98490A | William Espenshade | 78 FR 16292; March 14, 2013 | April 22, 2013.
98491A | Marcus Franco De Andrade | 78 FR 16292; March 14, 2013 | April 22, 2013.
98787A | Deborah Voyles | 78 FR 16292; March 14, 2013 | April 23, 2013.
98788A | Deborah Voyles | 78 FR 16292; March 14, 2013 | April 23, 2013.
98777A | Young Scholar (The) | 78 FR 16292; March 14, 2013 | April 23, 2013.
96245A | Riverbanks Zoo and Garden | 78 FR 17711, March 22, 2013 | May 31, 2013.
057398 | Zoological Society of San Diego | 78 FR 25297, April 30, 2013 | June 3, 2013.
94950A | Centers for Disease Control | 78 FR 21628, April 11, 2013 | June 3, 2013.
95489A | Stuart D. Nielsen | 78 FR 9725; February 11, 2013 | June 3, 2013.
75691A | Turtle Back Zoo | 77 FR 51819; August 27, 2012 | February 29, 2013.
89695A | Smithsonian National Zoological Park | 78 FR 12777; February 25, 2013 | April 12, 2013.
73328A | Dallas World Aquarium | 78 FR 113; January 2, 2013 | March 1, 2013.
81771A | Chahinkapa Zoo | 78 FR 113; January 2, 2013 | March 11, 2013.
65708A | Duke Lemur Center | 77 FR 30547; May 23, 2012 | September 9, 2012.
66809A | University of Cincinnati | 77 FR 34059; June 8, 2012 | September 13, 2012.
63801A | Global Viral Forecasting Initiative | 77 FR 24510; April 24, 2012 | September 12, 2012.
86728A | St. Catherine's Island Foundation | 78 FR 113; January 2, 2013 | February 21, 2013.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2013-14763 Filed 6-20-13; 8:45 am]

BILLING CODE 4310-55-P